DEPARTMENT OF DEFENSE

Department of the Navy

Notice of Availability for the Draft 2006 Supplemental Environmental Assessment to the 2002 Rim of the Pacific Programmatic Environmental Assessment, Hawaii

AGENCY: Department of the Navy, DoD.

ACTION: Notice.

SUMMARY: Pursuant to section 102(2)(C) of the National Environmental Policy Act (NEPA) of 1969 and the Council on Environmental Quality Regulations (40 CFR, Parts 1500-1508) implementing the procedural provisions of NEPA, the United States Department of the Navy (Navy) gives notice that a draft Supplement to the Programmatic Environmental Assessment (Supplemental PEA) has been prepared to evaluate the environmental impacts associated with implementation of the 2006 Rim of the Pacific (RIMPAC) exercises. RIMPAC 2006 is scheduled to be conducted from about June 26 to July 28, 2006. The United States National Marine Fisheries Service (NMFS), National Atmospheric and Oceanic Administration (NOAA), Department of Commerce, is a cooperating agency in the preparation of this draft Supplemental PEA.

DATES: Written comments on the draft EA are requested not later than February 21, 2006. Comments should be specific as possible. Comments should be mailed to: Commander, U.S. Pacific Fleet (N01CE1), 251 Makalapa Drive, Pearl Harbor, HI 96860. For additional information, write to the above address or call Pacific Fleet Environmental Office at 808-474-7836.

ADDRESSES: Copies of the Supplemental PEA addressing the proposed action are available by written request to the above address. Copies of the draft Supplemental PEA are also available for public review at the project Web site at http://www.smdcen.us/rimpac06/. In addition, the document may be reviewed at the following locations:

1. Wailuku Public Library, 251 High Street, Wailuku, HI 96793 (Maui).

2. Hilo Public Library, 300 Waianaenue Avenue, Hilo, HI 96720.

3. Hawaii State Library, Hawaii and Pacific Section Document Unit, 478 South King Street, Honolulu, HI 96813 (Oahu).

4. Lihue Public Library, 4344 Hardy Street, Lihue, HI 96766 (Kauai).

FOR FURTHER INFORMATION CONTACT: Pacific Fleet Environmental Office at 808-474-7836 or write to Commander, U.S. Pacific Fleet (N01CE1), 251 Makalapa Drive, Pearl Harbor, HI 96860.

SUPPLEMENTARY INFORMATION: RIMPAC has been conducted at various locations throughout the State of Hawaii and surrounding ocean areas biennially for the last 36 years. The purpose of RIMPAC is to implement a selected set of exercise activities that are combined into a multinational, sea control/power projection Fleet training exercise in a multi-threat environment. RIMPAC exercises enhance the abilities of a multinational Fleet force to communicate and operate in simulated hostile scenarios. In 2002, a Programmatic EA (PEA) was prepared in support of the RIMPAC exercises. The PEA identified the Proposed Action as the set of exercises and locations that would be used for RIMPAC activities for the foreseeable future. It identified the maximum usage of ongoing training assets and exercises that could be conducted within a given RIMPAC event and evaluated the impacts on the environment within those bounds. The FONSI for the RIMPAC PEA, signed June 11, 2002, concluded that as long as future RIMPAC exercises did not exceed the evaluated set of activities, the Proposed Action could be implemented without supplemental NEPA documentation. Thus, the scope of each future RIMPAC exercise has been evaluated for any emergent science affecting impact analysis and for consistency with the 2002 RIMPAC PEA and its FONSI.

The 2006 Supplement to the 2002 RIMPAC PEA was prepared to evaluate additional training event locations and to review all proposed RIMPAC 2006 activities to the analysis in the 2002 RIMPAC PEA and a 2004 Supplement to ensure all proposed activities are addressed. The review included an evaluation of: training levels (personnel and equipment) and types of equipment; facilities and procedures for implementing RIMPAC at each installation or range; and changes in the affected environment or environmental sensitivities. In addition, the 2006 Supplemental PEA also includes a description of the Antisubmarine Warfare (ASW) operations, and the ASW acoustic effects modeling completed for RIMPAC 2006.

The only change being proposed is the location for conducting the Non-Combatant Evacuation Operation (NEO) at the Pacific Missile Range Facility (PMRF) and Niihau. No new training events are proposed. The NEO training event locations at PMRF and Niihau, when added to the Proposed Action assessed in the RIMPAC PEA and 2004 Supplement, form the Proposed Action for the purpose of the draft 2006 Supplemental PEA.

Accordingly, the analysis conducted in the draft Supplemental PEA focused on the following resources: terrestrial and marine environments and cultural resources. Specifically, the 2006 Supplemental PEA includes analysis related to mid-frequency active sonar based on application of emergent science. Long-term studies of the quantification and effects of exposure of marine mammal species to acoustic emissions are progressing, and Navy, in coordination with the NMFS, is incorporating the results into this Supplemental PEA. The Antisubmarine Warfare (ASW) training events being analyzed are not new and have taken place with no significant changes over the previous 19 RIMPAC exercises. However, new scientific information has led to the ability to quantitatively identify harassment levels, as defined in the Marine Mammal Protection Act (MMPA), through the use of newly derived threshold criteria metrics. Additionally, scientific advances in effects-analysis modeling of sound on marine mammals have provided Navy the ability to predict cumulative effects on marine species due to a proposed action. Due to these advances in scientific information, the 2006 Supplemental PEA provides an effects-analysis on marine mammals that may be affected by the RIMPAC training events that use mid-frequency active sonar.

Based on the assumptions and analyses in the draft SPEA, the proposed action appears to have no significant impacts on the environment. However, Navy will consider and incorporate public comments into the final SPEA before making a decision on the environmental significance of the proposed action. If warranted, a Finding of No Significant Impact (FONSI) will be prepared and the final Supplemental PEA and FONSI will be made available for public review on or about May 5, 2006.

Dated: January 10, 2006.
Eric McDonald,
Lieutenant Commander, Judge Advocate General's Corps, U.S. Navy, Federal Register Liaison Officer.

[FR Doc. E6-647 Filed 1-19-06; 8:45 am]

BILLING CODE 3810-FF-P